DEPARTMENT OF THE INTERIOR

Office of Surface Mining Reclamation and Enforcement

30 CFR Parts 780, 784, 816, and 817

[Docket Number OSM-2007-0007]

RIN 1029-AC04

Excess Spoil, Coal Mine Waste, and Buffers for Waters of the United States

AGENCY: Office of Surface Mining Reclamation and Enforcement, Interior.

ACTION: Proposed rule; notice of public hearings and extension of comment period.

SUMMARY: We, the Office of Surface Mining Reclamation and Enforcement (OSM), are announcing a 30-day extension of the comment period on a proposed rule published in the August 24, 2007, Federal Register and the accompanying draft environmental impact statement (DEIS). This notice also provides notice of the dates and locations for the public hearings that we will hold on the proposed rule and DEIS. The proposed rule concerns buffer zones, stream diversions, siltation structures, impoundments, and the creation and disposal of excess spoil and coal mine waste.

DATES: We will accept written comments on the proposed rule and DEIS on or before November 23, 2007. We will hold public hearings on the proposed rule and DEIS on October 24, 2007, at the locations listed in the SUPPLEMENTARY INFORMATION section of this notice.

ADDRESSES: Please submit comments by one of the methods listed below. We cannot guarantee that comments submitted by other means or to other addresses will be included in the docket for this rulemaking.

• Federal eRulemaking Portal: http://www.regulations.gov. The proposed rule and DEIS are listed under the agency name “Office of Surface Mining Reclamation and Enforcement.” The proposed rule has been assigned Docket ID: OSM-2007-0007. The DEIS has been assigned Docket ID: OSM-2007-0008.

If you would like to submit comments through the Federal eRulemaking Portal, go to www.regulations.gov and do the following. Find the blue banner with the words “Search Documents” and go to “Optional Step 2.” Select “Office of Surface Mining Reclamation and Enforcement” from the agency drop-down menu, then click the “Submit” button at the bottom of the page. The next screen will have the title “Document Search Results.” The proposed rule is listed under the Docket ID as OSM-2007-0007. If you click on OSM-2007-0007, you can view the proposed rule, add comments, and view comments submitted by other persons. The DEIS is listed under the Docket ID as OSM-2007-0008. If you click on OSM-2007-0008, you can view the DEIS, add comments, and view comments submitted by other persons.

• Mail/Hand-Delivery/Courier: Office of Surface Mining Reclamation and Enforcement, Administrative Record, Room 252 SIB, 1951 Constitution Avenue, NW., Washington, DC 20240.

Reviewing a Copy of the DEIS

You may review the DEIS at any of the public libraries listed in the notice of availability published in the Federal Register on August 24, 2007 (72 FR 48678-48679) or at the following locations:

Office of Surface Mining Reclamation and Enforcement, Administrative Record, Room 101 SIB, 1951 Constitution Avenue, NW., Washington, DC 20240, 202-208-4264

Office of Surface Mining Reclamation and Enforcement, Appalachian Regional Office, Three Parkway Center, Pittsburgh, PA 15220, 412-937-2909

Office of Surface Mining Reclamation and Enforcement, Mid-Continent Regional Office, Alton Federal Building, 501 Belle Street, Room 216, Alton, IL 62002, 618-463-6460

Office of Surface Mining Reclamation and Enforcement, Western Regional Office, 1999 Broadway, Suite 3320, Denver, CO 80201-6667, 303-844-1401

Public Hearing Locations

See the SUPPLEMENTARY INFORMATION section of this notice for the addresses at which we will hold public hearings on the proposed rule and DEIS.

FOR FURTHER INFORMATION CONTACT: Dennis G. Rice, Office of Surface Mining Reclamation and Enforcement, U.S. Department of the Interior, 1951 Constitution Avenue, NW., Washington, DC 20240. Telephone: 202-208-2829.

SUPPLEMENTARY INFORMATION: On August 24, 2007 (72 FR 48890), we published a proposed rule proposing to amend our regulations concerning stream buffer zones, stream diversions, siltation structures, impoundments, and the creation and disposal of excess spoil and coal mine waste. Among other things, this proposed rule would require that surface coal mining operations be designed to minimize the creation of excess spoil and the adverse environmental impacts of fills constructed to dispose of excess spoil and coal mine waste. It would apply the buffer requirement to all waters of the United States, not just perennial and intermittent streams. The rule would clearly specify the activities to which that requirement does and does not apply and the limitations on conducting activities within the buffer, either under a variance or an exception. It also would specify requirements to protect aquatic and other resources when an activity is conducted under either a variance or an exception.

The comment period on the proposed rule and the DEIS was scheduled to close October 23, 2007. However, we received numerous requests to extend the comment period. After reviewing the requests, we are extending the deadline for submission of comments by 30 days. The comment period for both the proposed rule and the DEIS will now close November 23, 2007.

We also received numerous requests to hold public hearings on the proposed rule and DEIS. After reviewing the requests, we have decided to hold four public hearings on October 24, 2007, at the following locations:

• Holiday Inn Charleston (Charleston House), 600 Kanawha Boulevard East, Charleston, West Virginia.

• Hazard Community & Technical College, Hazard Campus, Jolly Center, Room 208, One Community College Drive, Hazard, Kentucky.

• Pellissippi State Technical Community College, Goins Auditorium, 10915 Hardin Valley Road, Knoxville, Tennessee.

• Ramada Inn Washington, 1170 West Chestnut Street, Washington, Pennsylvania.

All hearings are scheduled to begin at 6 p.m. and end at 9 p.m. They will be open to anyone who would like to attend or testify. If you do not sign up to testify initially, but later decide that you wish to do so, you will be allowed to testify after all scheduled speakers have finished.

The primary purpose of the hearings is to obtain input on the proposed rule and DEIS. A public hearing is not an adversarial process. Therefore, we encourage you to limit your testimony to the merits of the provisions of the proposed rule and DEIS.

At the hearing, a court reporter will record and make a written record of the statements presented. This written record will be made part of the docket for the rule. If you have a written copy of your testimony, we encourage you to provide a copy to assist the court reporter in preparing the written record. Please do not feel intimidated by either the reporter or the formal structure of the hearing.

If you are a disabled individual who needs reasonable accommodation to attend a public hearing, please contact the person listed under FOR FURTHER INFORMATION CONTACT.

Dated: October 1, 2007.
Foster L. Wade,
Deputy Assistant Secretary, Land and Minerals Management.

[FR Doc. E7-19961 Filed 10-9-07; 8:45 am]

BILLING CODE 4310-05-P